DEPARTMENT OF COMMERCE

Bureau of Industry and Security

15 CFR Part 748

[Docket No. 170721693-7693-01]

RIN 0694-AH40

Amendments to Existing Validated End-User Authorization in the People's Republic of China: Lam Research Service Co., Ltd.

AGENCY: Bureau of Industry and Security, Commerce.

ACTION: Final rule.

SUMMARY: In this rule, the Bureau of Industry and Security (BIS) amends the Export Administration Regulations (EAR) to revise the existing Validated End-User (VEU) list for the People's Republic of China (PRC) by updating the list of eligible destinations (facilities) and eligible items in Supplement No. 7 to part 748 for Lam Research Service Co., Ltd. (Lam). The End-User Review Committee (ERC) reviewed and authorized the amendments to the eligible facilities in response to a request made by Lam and in accordance with established procedures. Changes to the list of eligible items are technical corrections intended to improve clarity. As a consequence of these amendments, the EAR will include an updated and accurate list of eligible items (items that may be exported, reexported and transferred (in-country)), and eligible Lam facilities in the PRC. Publication of this rule supports the VEU program by providing information that assists the exporting public.

DATES: This rule is effective October 23, 2017.

FOR FURTHER INFORMATION CONTACT: Chair, End-User Review Committee, Office of the Assistant Secretary, Export Administration, Bureau of Industry and Security, U.S. Department of Commerce, Phone: 202-482-5991; Email: ERC@bis.doc.gov.

SUPPLEMENTARY INFORMATION:

Background

Authorization Validated End-User

Validated End-Users (VEUs) are designated entities located in eligible destinations to which eligible items may be exported, reexported, or transferred (in-country) under a general authorization instead of a license. The names of the VEUs, as well as the dates they were so designated, and the associated eligible destinations (facilities) and items are identified in Supplement No. 7 to part 748 of the EAR. Pursuant to section 748.15 (Authorization Validated End-User (VEU)), eligible destinations of VEUs may obtain eligible items without the need for the VEUs' supplier to obtain an export or reexport license from BIS. Eligible items vary among VEUs and may include commodities, software, and/or technology, except items controlled for missile technology or crime control reasons on the Commerce Control List (CCL) (Supp. No. 1 to part 774 of the EAR).

VEUs are reviewed and approved by the U.S. Government in accordance with the provisions of § 748.15 and Supplement Nos. 8 and 9 to part 748 of the EAR. The ERC, composed of representatives from the Departments of State, Defense, Energy and Commerce, and other agencies as appropriate, is responsible for administering the VEU program. BIS amended the EAR in a final rule published on June 19, 2007 (72 FR 33646), to create Authorization VEU.

Amendments to Existing VEU Authorization for Lam Research Service Co., Ltd. (Lam) in the People's Republic of China (PRC)

Revision to the List of “Eligible Destinations” (Facilities) and “Eligible Items” for Lam

In this rule, BIS amends Supplement No. 7 to part 748 to revise the eligible facilities in the PRC and the items that may be exported, reexported or transferred (in-country) to those facilities under VEU authorization for Lam. Specifically, the amendments to Lam's eligible facilities, including modifications to the name and/or address, addition of new facilities, and a facility removal, are being made in response to a request from Lam. The End-User Review Committee reviewed and authorized the amendments in accordance with established procedures.

BIS also makes a technical update to the list of Lam's eligible items to increase clarity and transparency, as described further below.

Facilities

Revisions to Lam's Eligible Facilities

Prior to this rule, Lam's VEU authorization included 18 facilities in the PRC. Of those facilities, 13 remain substantially unchanged in Supplement No. 7 to part 748 apart from minor edits made by BIS to punctuation and display (e.g., adding a space after asterisks and removing unnecessary commas) of addresses for the 13 facilities, as set forth below. BIS also updated the address for one facility, updated the names of two facilities, updated both the name and address of one facility, and removed one facility. In this rule, BIS also adds six facilities to Lam's VEU authorization. With the publication of this rule, Lam's total number of facilities in the PRC is 23. Specific revisions to the list of Lam facilities are as follows:

Punctuation and Display of Addresses for 13 Existing Facilities

Before:

* Lam Research International Sarl (Lam Beijing Warehouse),

c/o Beijing Lam Electronics Tech Center,

1 Building, No. 28, Jinghai Second Road, BDA,

Beijing, China 100176.

After:

* Lam Research International Sarl (Lam Beijing Warehouse)

c/o Beijing Lam Electronics Tech Center

1 Building, No. 28, Jinghai Second Road, BDA

Beijing, China 100176

Before:

* Lam Research International Sarl (Lam Beijing Warehouse),

c/o Beijing STE International Logistics Co., Ltd.,

Building 3, No. 9 Ke Chuang Er Street,

Beijing Economic & Technological Development Area,

Beijing, China 100176.

After:

* Lam Research International Sarl (Lam Beijing Warehouse)

c/o Beijing STE International Logistics Co., Ltd.

Building 3, No. 9 Ke Chuang Er Street

Beijing Economic & Technological Development Area

Beijing, China 100176

Before:

* Lam Research International Sarl (Lam Beijing Warehouse),

c/o China International Electronic Service Company,

1 Building, No. 28, Jinghai Second Road, BDA,

Beijing, China 100176.

After:

* Lam Research International Sarl (Lam Beijing Warehouse)

c/o China International Electronic Service Company

1 Building, No. 28, Jinghai Second Road, BDA

Beijing, China 100176

Before:

* Lam Research International Sarl (Lam Beijing Warehouse)

c/o HMG Hi-tech Logistics (Beijing) Co., Ltd.

Building 3, No. 9 Ke Chuang Er Street

Beijing Economic Technological Development Area

Beijing, China 100176.

After:

* Lam Research International Sarl (Lam Beijing Warehouse)

c/o HMG Hi-Tech Logistics (Beijing) Co., Ltd.

Building 3, No. 9 Ke Chuang Er Street

Beijing Economic & Technological Development Area

Beijing, China 100176

Before:

* Lam Research International Sarl (Lam Shanghai Warehouse Operator),

c/o Shanghai Well-win Logistics Co., Ltd.,

No. 2667 Zuchongzhi Road,

Pudong New District, Shanghai, China.

After:

* Lam Research International Sarl (Lam Shanghai Warehouse Operator)

c/o Shanghai Well-Win Logistics Co., Ltd.

No. 2667 Zuchongzhi Road

Pudong New District

Shanghai, China

Before:

* Lam Research International Sarl (Lam Shanghai Warehouse; WGQ Bonded Warehouse)

c/o HMG Supply Chain (Shanghai) Co., Ltd.

No. 55, Fei la Road, Waigaoqiao Free Trade Zone

Pudong New Area

Shanghai, China 200131.

After:

* Lam Research International Sarl (Lam Shanghai Warehouse; WGQ Bonded Warehouse)

c/o HMG Supply Chain (Shanghai) Co., Ltd.

No. 55, Fei La Road

Waigaoqiao Free Trade Zone

Pudong New Area

Shanghai, China 200131

Before:

* Lam Research International Sarl (Lam Xi'an Warehouse),

c/o VR International Logistics (Xi'an) Co., Ltd.,

No. 28 Information Road, EPZ B Zone,

Xian New District, Xian, China 710119.

After:

* Lam Research International Sarl (Lam Xi'an Warehouse)

c/o VR International Logistics (Xi'an) Co., Ltd.

No. 28 Information Road

EPZ B Zone, Xi'an New District

Xi'an, China 710119

Before:

* Lam Research International Sarl (Wuxi EPZ Bonded Warehouse)

c/o HMG WHL Logistic (Wuxi) Co., Ltd.

1st Fl, Area 4, No. 1, Plot J3

No. 5 Gaolang East Road

Export Processing Zone

Wuxi, China 214028.

After:

* Lam Research International Sarl (Wuxi EPZ Bonded Warehouse)

c/o HMG WHL Logistics (Wuxi) Co., Ltd.

1st Floor, Area 4, No. 1, Plot J3

No. 5 Gaolang East Road

Export Processing Zone

Wuxi, Jiangsu, China 214028

Before:

** Lam Research Service Co., Ltd.

1st Floor, Area C

Hua Hong Science & Technology Park

177 Bi Bo Road

Zhangjiang Hi-Tech Park

Pudong, Shanghai, China 201203.

After:

** Lam Research Service Co., Ltd. (Shanghai)

1st Floor, Area C

Hua Hong Science & Technology Park

177 Bi Bo Road

Zhangjiang Hi-Tech Park, Pudong New District

Shanghai, China 201203

Before:

** Lam Research Service Co., Ltd.,

Beijing Branch, 6th Floor, Building 52,

No. 2, Jingyuan North Street,

Beijing Economic & Technological Development Area,

Beijing, China 100176.

After:

** Lam Research Service Co., Ltd. (Beijing Branch)

6th Floor, Building 52

No. 2, Jingyuan North Street

Beijing Economic & Technological Development Area

Beijing, China 100176

Before:

** Lam Research Service Co., Ltd.

(Lam Dalian Representative Office),

c/o Intel Semiconductor (Dalian) Ltd.,

No. 109 Huaihe Road East,

Dalian Economic & Technical Development Area,

Dalian, China 116600.

After:

** Lam Research Service Co., Ltd. (Lam Dalian Representative Office)

c/o Intel Semiconductor (Dalian) Ltd.

No. 109 Huaihe Road East

Dalian Economic & Technical Development Area

Dalian, China 116600

Before:

** Lam Research Service Co., Ltd.

Wuhan Representative Office

Room 302, Guanggu Software Park Building E4

No. 1 Guanshan Road

Donghu Development Zone

Wuhan, Hubei Province, China 430074.

After:

** Lam Research Service Co., Ltd. (Wuhan Representative Office)

Room 302, Guanggu Software Park Building E4

No. 1 Guanshan Road

Wuhan, Hubei Province, China 430074

Before:

** Lam Research Service (Shanghai) Co., Ltd.

Xi'an Branch, Room 602,

Building G, Wangzuo Xiandai City,

35 Tangyan Road, Gaoxin District, Xi'an, China 710065.

After:

** Lam Research Service (Shanghai) Co., Ltd. (Xi'an Branch)

Room 602, Building G, Wangzuo Xiandai City

35 Tangyan Road, Gaoxin District

Xi'an, China 710065

Change of Address for 1 Existing Facility

Before:

* Lam Research International Sarl (Lam Shanghai Warehouse)

c/o HMG Supply Chain (Shanghai) Co., Ltd.

No. 3869, Longdong Avenue

Pudong New District

Shanghai, China 201203.

After:

* Lam Research International Sarl (Lam Shanghai Warehouse)

c/o HMG Supply Chain (Shanghai) Co., Ltd.

No. 633, Shangfeng Road

Pudong New District

Shanghai, China 201201

Name Change for 2 Facilities

Before:

* Lam Research International Sarl (Lam Dalian Warehouse),

c/o JD Logistics Dalian bonded Logistic Co., Ltd.,

No. 1 Public Warehouse, Dalian Bonded Logistics Zone,

Dalian, China 116600.

After:

* Lam Research International Sarl (Lam Dalian Warehouse)

c/o Liaoning JD Logistics International Co., Ltd.

Dalian Bonded Logistics Zone

No. 1 Public Warehouse

Dalian, China 116600

Before:

** Lam Research Service Co., Ltd.

Wuxi Representative Office

Room 302, Building 6, Singapore International Park

No. 89 Xing Chuang Si Road

Wuxi New District

Wuxi, Jiangsu, China 214028.

After:

** Lam Research Service Co., Ltd. (Wuxi Branch)

Room 302, Building 6, Singapore International Park

No. 89 Xing Chuang Si Road

Wuxi New District

Wuxi, Jiangsu, China 214028

Change of Address and Name for 1 Existing Facility

Before:

* Lam Research International Sarl (Wuhan TSS)

c/o HMG Wuhan Logistic Co., Ltd.

1st-2nd Floor, Area B, No. 5 Building

Hua Shi Yuan Er Road

East-lake Hi-Tech Development Zone

Wuhan, Hubei Province, China 430223.

After:

* Lam Research International Sarl (Lam Wuhan Warehouse)

c/o Wuhan HMG Logistics Co., Ltd.

Factory C101/201, 1-2F Building 1

Central China Normal University Park Road

Wuhan, China 430223

Removal of 1 Facility

* Lam Research International Sarl (Wuxi Bonded Warehouse for CIQ inspection)

c/o SinoTrans Jiangsu Fuchang Logistics Co., Ltd.

No.1 Xiqin Road,

Area A, Export Processing Zone, New District

Wuxi, China 214028

Addition of 6 Facilities

* Lam Research International Sarl (Lam Dalian Warehouse)

c/o Liaoning JD Logistics International Co., Ltd.

Dalian Bonded Logistics Port

W5-B8, No. 6, Road #3

Dalian, China 116600

* Lam Research International Sarl (Lam Shanghai Warehouse)

c/o Regal Harmony Logistics Co., Ltd.

No.799, Yihua Road

Pudong New District

Shanghai, China 201299

* Lam Research International Sarl (Lam Wuxi Warehouse)

c/o HMG WHL Logistics (Wuxi) Co., Ltd.

Plot J3-4, No. 5 Gaolang East Road

CBZ, New District Wuxi

Wuxi, China 214208

* Lam Research International Sarl (Lam Xiamen Warehouse)

c/o VR Int'l Logistics (Xiamen) Co., Ltd.

C3 Area No. 3 Warehouse

No. 1007 West Fangshan Road

Bonded Logistics Center (Type B) Xiang'an District

Xiamen, China 361101

** Lam Research Service Co., Ltd. (Xiamen)

Room 705A, Qiangye Building

Xiang'an Industrial Park, Xiamen Torch Hi-tech Zone

Xiamen, China 361115

** Lam Research Service Co., Ltd. (Dalian Branch)

Units 01, 02, 13, 10th Floor, Jinma International Building

No. 1 Yongde Street

Dalian, China 116620

Items

Revisions to Lam's Eligible Items

For all Lam's facilities, this rule limits the authorization for ECCNs 2B230, 2B350.c, 2B350.d, 2B350.g, 2B350.h, 2B350.i and 3B001.e to items for the installation, warranty maintenance/repair, or maintenance/repair service of semiconductor manufacturing equipment manufactured by Lam. These end-use limits for eligible items are not new. Previously, these limitations were imposed as a condition to the authorization given to Lam, rather than specified in the description of eligible items set forth in Supplement No. 7 to Part 748.

This rule also limits the authorization for 3D001 software (excluding source code) for all facilities to allow only such software that is specially designed for the “development” or “production” of equipment controlled by paragraph .e of ECCN 3B001. A similar limitation is made for 3D002 software (excluding source code) for all facilities, so that only such software that is specially designed for the “use” of equipment controlled by paragraph .e of ECCN 3B001 qualifies as an eligible item. These changes are consistent with the fact that 3B001.c no longer appears under Lam's list of Eligible items. As a result of a foreign availability determination, BIS removed the items under paragraph .c from the CCL with the publication of the Wassenaar Arrangement Regime 2015 Implementation Rule on September 20, 2016 (81 FR 64656). Paragraph .c to 3B001 is now reserved in the CCL. The changes made by this rule recognize that paragraph .c of 3B001 no longer exists by now limiting the authorization for all Lam facilities to certain software related to paragraph .e of 3B001, rather than software that relates to all paragraphs of 3B001.

Lastly, for Lam's “Warehouse Facilities,” identified by a single asterisk in Supplement No. 7 to part 748, this rule further limits the scope of the authorization for items under ECCN 3E001 to “development” “technology” according to the General Technology Note of a type of equipment classified under paragraph .e of ECCN 3B001. For Lam's “Sales Offices,” identified by a set of double asterisks in Supplement No. 7 to part 748, this rule narrows the scope of eligible ECCN 3E001 items to “development” “technology” or “production” “technology” according to the General Technology Note of a type to support integration, assembly (mounting), inspection, testing, and quality assurance of equipment classified under paragraph .e of ECCN 3B001. Although the wording of the eligible 3E001 items changed slightly in an attempt to improve clarity, this change also reflects the removal of paragraph .c of ECCN 3B001 from the Lam list of eligible items, consistent with change to the CCL, as described above, by limiting the eligible technology to items only associated with paragraph .e of ECCN 3B001.

In summary, Eligible Items both for Lam's “Warehouse Facilities” and for “Sales Offices” will include items classified under ECCNs 2B230, 2B350.c, 2B350.d, 2B350.g, 2B350.h, 2B350.i, 3B001.e, 3D001, 3D002, and 3E001, subject to certain very specific limits. The difference between what is eligible for export to “Warehouse Facilities,” identified by a single asterisk in Supplement No. 7 to part 748, and what is eligible for export to “Sales Offices,” identified by two asterisks in Supplement No. 7 part 748, is in the limitations placed on eligible ECCN 3E001 technology. As explained above, and in the rule text, eligible 3E001 technology for “Warehouse Facilities” will only include certain “development” technology, while eligible 3E001 technology for “Sales Offices” will include certain “development” technology and certain “production” technology.

Export Administration Act of 1979

Although the Export Administration Act of 1979 expired on August 20, 2001, the President, through Executive Order 13222 of August 17, 2001, 3 CFR, 2001 Comp., p. 783 (2002), as amended by Executive Order 13637 of March 8, 2013, 78 FR 16129 (March 13, 2013) and as extended by the Notice of August 15, 2017, 82 FR 39005 (August 16, 2017), has continued the Export Administration Regulations in effect under the International Emergency Economic Powers Act. BIS continues to carry out the provisions of the Export Administration Act of 1979, as appropriate and to the extent permitted by law, pursuant to Executive Order 13222 as amended by Executive Order 13637.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, reducing costs, harmonizing rules, and promoting flexibility. This rule has been determined to be not significant for purposes of Executive Order 12866. This rule is not an Executive Order 13771 regulatory action because this rule is not significant under Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This rule involves collections previously approved by the Office of Management and Budget (OMB) under Control Number 0694-0088, “Multi-Purpose Application,” which carries a burden hour estimate of 43.8 minutes to prepare and submit form BIS-748; and for recordkeeping, reporting and review requirements in connection with Authorization VEU, which carries an estimated burden of 30 minutes per submission. This rule is expected to result in a decrease in license applications submitted to BIS. Total burden hours associated with the Paperwork Reduction Act of 1995 (44 U.S.C. 3501 et seq.) (PRA) and OMB Control Number 0694-0088 are not expected to increase significantly as a result of this rule.

3. This rule does not contain policies with Federalism implications as that term is defined under Executive Order 13132.

4. Pursuant to the Administrative Procedure Act (APA), 5 U.S.C. 553(b)(B), BIS finds good cause to waive the otherwise applicable requirements that this rule be subject to notice and the opportunity for public comment because it is unnecessary. In determining whether to grant VEU designations, a committee of U.S. Government agencies evaluates information about and commitments made by candidate companies, the nature and terms of which are set forth in 15 CFR part 748, Supplement No. 8. The criteria for evaluation by the committee are set forth in 15 CFR 748.15(a)(2). The information, commitments, and criteria for this extensive review were all established through the notice of proposed rulemaking (71 FR 38313, July 6, 2006), the public comment process, and issuance of the final rule establishing Authorization VEU (72 FR 33646, June 19, 2007). The publication of this rule does not establish new policy. In publishing this final rule, BIS amends the authorization for an existing eligible VEU in order to update eligible destinations (facilities) and eligible items. This change has been made within the established regulatory framework of the VEU program. Because the criteria and process for authorizing and administering VEUs were developed with public comments, allowing additional public comment on this amendment to an existing individual VEU authorization, which was determined according to those criteria, is unnecessary.

Publication of this rule in other than final form is unnecessary because the amendments made by this rule are consistent with the authorizations granted to exporters for individual export licenses (and amendments or revisions thereof), which do not undergo public review. As with license applications, VEU authorization applications contain confidential business information, which is necessary for the extensive review conducted by the U.S. Government in assessing such applications. This information is extensively reviewed according to the criteria for VEU authorizations, as set out in 15 CFR 748.15(a)(2). Just as license applications are reviewed through an interagency review process, the authorizations granted under the VEU program involve interagency deliberation and result from review of public and non-public sources, including licensing data, and the measurement of such information against the VEU authorization criteria. Given the nature of the review, and in light of the parallels between the VEU application review process and the review of license applications, public comment on the underlying authorization and any subsequent amendments that update the authorization prior to publication is unnecessary. Moreover, because, as noted above, the criteria and process for authorizing and administering VEUs were developed with public comments, allowing additional public comment on this amendment to an individual VEU authorization, which was determined according to those criteria, is unnecessary.

Section 553(d) of the APA provides that rules generally may not take effect earlier than thirty (30) days after they are published in the Federal Register. However, BIS finds good cause to waive the 30-day delay in effectiveness for this rule pursuant to 5 U.S.C. 553(d)(3) because the delay would be contrary to the public interest. With this rule, BIS is simply amending the authorization of an existing VEU to update the eligible destinations (facilities) and eligible items. The amendments to the EAR in this rule are consistent with established objectives and parameters administered and enforced by the responsible designated departmental representatives to the End-User Review Committee. Delaying this action's effectiveness would likely cause confusion for the public regarding which items are authorized by the U.S. Government to be shipped to which eligible destination (facility), thereby undermining the efficacy of the VEU Program. Accordingly, it is contrary to the public interest to delay this rule's effectiveness.

No other law requires that a notice of proposed rulemaking and an opportunity for public comment be given for this final rule. Because a notice of proposed rulemaking and an opportunity for public comment are not required under the APA or by any other law, the analytical requirements of the Regulatory Flexibility Act (5 U.S.C. 601 et seq.) are not applicable. As a result, no final regulatory flexibility analysis is required and none has been prepared.

List of Subjects in 15 CFR Part 748

Administrative practice and procedure, Exports, Reporting and recordkeeping requirements.

Accordingly, part 748 of the Export Administration Regulations (15 CFR parts 730-774) is amended as follows:

PART 748—[AMENDED]

1. The authority citation for part 748 continues to read as follows:

Authority: 50 U.S.C. 4601 et seq.; 50 U.S.C. 1701 et seq.; 22 U.S.C. 3201 et seq.; 42 U.S.C. 2139a; 22 U.S.C. 7201 et seq.; 22 U.S.C. 7210; Sec. 1503, Pub. L. 108-11, 117 Stat. 559; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Presidential Determination 2003-23, 68 FR 26459, 3 CFR, 2004 Comp., p. 320; Notice of November 8, 2016, 81 FR 79379 (November 10, 2016); Notice of August 15, 2017, 82 FR 39005 (August 16, 2017).

2. Amend Supplement No. 7 to part 748 by revising the entry for “Lam Research Service Co. Ltd.” in “China (People's Republic of)” to read as follows:

Supplement No. 7 to Part 748—Authorization Validated End-User (VEU): List of Validated End-Users, Respective Items Eligible for Export, Reexport and Transfer, and Eligible Destinations
Country | Validated end-user | Eligible items (by ECCN) | Eligible destination | Federal Register citation
Nothing in this Supplement shall be deemed to supersede other provisions in the EAR, including but not limited to § 748.15(c).
| * * * * * * *
| Lam Research Service Co., Ltd | These Items Authorized for those Lam's Destinations Identified by a single asterisk (*): 2B230, 2B350.c, 2B350.d, 2B350.g, 2B350.h, 2B350.i, and 3B001.e (limited to installation, warranty maintenance/repair, or maintenance/repair service of semiconductor manufacturing equipment manufactured by Lam, and items classified under ECCN 3B001.e are limited to specially designed components and accessories), 3D001 (limited to “software” (excluding source code) specially designed for the “development” or “production” of equipment controlled by ECCN 3B001.e)), 3D002 (limited to “software” (excluding source code) specially designed for the “use” of equipment controlled by ECCN 3B001.e)), and 3E001 (limited to “development” “technology” according to the General Technology Note of a type of equipment classified under ECCN 3B001.e) | * Lam Research International Sarl (Lam Beijing Warehouse), c/o Beijing Lam Electronics Tech Center, 1 Building, No. 28, Jinghai Second Road, BDA, Beijing, China 100176 * Lam Research International Sarl (Lam Beijing Warehouse), c/o Beijing STE International Logistics Co., Ltd., Building 3, No. 9 Ke Chuang Er Street Beijing Economic & Technological Development Area, Beijing, China 100176 * Lam Research International Sarl (Lam Beijing Warehouse), c/o China International Electronic Service Company, 1 Building, No. 28, Jinghai Second Road, BDA, Beijing, China 100176 * Lam Research International Sarl (Lam Beijing Warehouse), c/o HMG Hi-Tech Logistics (Beijing) Co., Ltd., Building 3, No. 9 Ke Chuang Er Street, Beijing Economic & Technological Development Area, Beijing, China 100176 * Lam Research International Sarl (Lam Dalian Warehouse), c/o Liaoning JD Logistics International Co., Ltd., Dalian Bonded Logistics Port, W5-B8, No. 6, Road #3, Dalian, China 116600 | 72 FR 59164, 10/19/07, 74 FR 19382, 4/29/09. 77 FR 10953, 2/24/12. 77 FR 40258, 7/9/12. 82 FR [INSERT PAGE NUMBER], [INSERT DATE OF PUBLICATION].
|  |  | * Lam Research International Sarl (Lam Dalian Warehouse), c/o Liaoning JD Logistics International Co., Ltd., Dalian Bonded Logistics Zone No. 1 Public Warehouse Dalian, China 116600 |
|  |  | * Lam Research International Sarl (Lam Shanghai Warehouse), c/o HMG Supply Chain (Shanghai) Co., Ltd., No. 633, Shangfeng Road, Pudong New District, Shanghai, China 201201 |
|  |  | * Lam Research International Sarl (Lam Shanghai Warehouse), c/o Regal Harmony Logistics Co., Ltd., No. 799, Yihua Road, Pudong New District, Shanghai, China 201299 |
|  |  | * Lam Research International Sarl (Lam Shanghai Warehouse Operator), c/o Shanghai Well-Win Logistics Co., Ltd., No. 2667 Zuchongzhi Road, Pudong New District, Shanghai, China |
|  |  | * Lam Research International Sarl (Lam Shanghai Warehouse; WGQ Bonded Warehouse), c/o HMG Supply Chain (Shanghai) Co., Ltd., No. 55, Fei La Road, Waigaoqiao Free Trade Zone Pudong New Area, Shanghai, China 200131 |
|  |  | * Lam Research International Sarl (Lam Wuhan Warehouse), c/o Wuhan HMG Logistics Co., Ltd., Factory C101/201, 1-2F Building 1, Central China Normal, University Park Road, Wuhan, China 430223 |
|  |  | * Lam Research International Sarl (Lam Wuxi Warehouse), c/o HMG WHL Logistics (Wuxi) Co., Ltd., Plot J3-4, No. 5 Gaolang East Road, CBZ, New District Wuxi, Wuxi, China 214208 |
|  |  | * Lam Research International Sarl (Lam Xiamen Warehouse), c/o VR Int'l Logistics (Xiamen) Co., Ltd., C3 Area No. 3 Warehouse, No. 1007 West Fangshan Road, Bonded Logistics Center (Type B) Xiang'an District, Xiamen, China 361101 |
|  |  | * Lam Research International Sarl (Lam Xi'an Warehouse), c/o VR International Logistics (Xi'an) Co., Ltd., No. 28 Information Road, EPZ B Zone, Xi'an New District, Xi'an, China 710119 |
|  |  | * Lam Research International Sarl (Wuxi EPZ Bonded Warehouse), c/o HMG WHL Logistics (Wuxi) Co., Ltd., 1st Floor, Area 4, No. 1, Plot J3, No. 5 Gaolang East Road, Export Processing Zone, Wuxi, Jiangsu, China 214028 |
|  | These Items Authorized for those Lam's Destinations Identified by double asterisks (**): 2B230, 2B350.c, 2B350.d, 2B350.g, 2B350.h, 2B350.i, and 3B001.e (limited to installation, warranty maintenance/repair, or maintenance/repair service of semiconductor manufacturing equipment manufactured by Lam, and items classified under ECCN 3B001.e are limited to specially designed components and accessories), 3D001 (limited to “software” (excluding source code) specially designed for the “development” or “production” of equipment controlled by ECCN 3B001.e)), 3D002 (limited to “software” (excluding source code) specially designed for the “use” of equipment controlled by ECCN 3B001.e)), and 3E001 (limited to “development” “technology” or “production” “technology” according to the General Technology Note of a type to support integration, assembly (mounting), inspection, testing, and quality assurance of equipment classified under ECCN 3B001.e)) | ** Lam Research Service Co., Ltd. (Shanghai), 1st Floor, Area C, Hua Hong Science & Technology Park, 177 Bi Bo Road, Zhangjiang Hi-Tech Park, Pudong New District, Shanghai, China 201203 ** Lam Research Service Co., Ltd. (Xiamen), Room 705A, Qiangye Building, Xiang'an Industrial Park, Xiamen Torch Hi-tech Zone, Xiamen, China 361115 ** Lam Research Service Co., Ltd. (Beijing Branch), 6th Floor, Building 52, No. 2, Jingyuan North Street, Beijing Economic & Technological Development Area, Beijing, China 100176 ** Lam Research Service Co., Ltd. (Dalian Branch), Units 01, 02, 13, 10th Floor, Jinma International Building, No. 1 Yongde Street, Dalian, China 116620 ** Lam Research Service Co., Ltd. (Lam Dalian Representative Office), c/o Intel Semiconductor (Dalian) Ltd., No. 109 Huaihe Road East, Dalian Economic & Technical Development Area, Dalian, China 116600
|  |  | ** Lam Research Service Co., Ltd. (Wuhan Representative Office), Room 302, Guanggu Software Park Building E4, No. 1 Guanshan Road, Wuhan, Hubei Province, China 430074
|  |  | ** Lam Research Service Co., Ltd. (Wuxi Branch), Room 302, Building 6, Singapore International Park, No. 89 Xing Chuang Si Road, Wuxi New District, Wuxi, Jiangsu, China 214028
|  |  | ** Lam Research Service (Shanghai) Co., Ltd. (Xi'an Branch), Room 602, Building G, Wangzuo Xiandai City, 35 Tangyan Road, Gaoxin District, Xi'an, China 710065

* * * * *

Dated: October 11, 2017.
Richard E. Ashooh,
Assistant Secretary for Export Administration.

[FR Doc. 2017-22649 Filed 10-20-17; 8:45 am]

BILLING CODE 3510-33-P